DEPARTMENT OF TRANSPORTATION

Federal Motor Carrier Safety Administration

[Docket No. FMCSA-2024-0313]

Agency Information Collection Activities; Revision of an Approved Information Collection: National Consumer Complaint Database

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. This revision is for the National Consumer Complaint Database (NCCDB), which is an online interface allowing consumers, drivers, and others to file complaints against unsafe and unscrupulous companies and/or their employees, including shippers, receivers, and transportation intermediaries, depending on the type of complaint. These complaints cover a wide range of issues, including but not limited to driver harassment, coercion, movement of household goods, financial responsibility instruments for brokers and freight forwarders, Americans with Disability Act (ADA) compliance, Electronic Logging Device (ELD), Entry-Level Driver Training (ELDT), Medical Review Officer (MRO), and Substance Abuse Professional (SAP) complaints. FMCSA requests approval to revise the ICR titled “National Consumer Complaint Database.”

DATES: Comments on this notice must be received on or before March 4, 2025.

ADDRESSES: You may submit comments identified by Docket Number FMCSA-2024-0313 using any of the following methods:

• Federal eRulemaking Portal: https://www.regulations.gov. Follow the online instructions for submitting comments.

• Mail: Dockets Operations; U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001 between 9 a.m. and 5 p.m. ET, Monday through Friday, except Federal holidays. To be sure someone is there to help you, please call (202) 366-9317 or (202) 366-9826 before visiting Dockets Operations.

• Fax: (202) 493-2251.

To avoid duplication, please use only one of these four methods. See the “Public Participation and Request for Comments” portion of the SUPPLEMENTARY INFORMATION section for instructions on submitting comments.

FOR FURTHER INFORMATION CONTACT: Ms. Donnice Wagoner, Commercial Enforcement Division/MC-SEI, DOT, FMCSA, West Building 6th Floor, 1200 New Jersey Avenue SE, Washington, DC 20590-0001; (202) 366-8045; Donnice.Wagoner@dot.gov.

SUPPLEMENTARY INFORMATION:

Instructions

All submissions must include the Agency name and docket number. For detailed instructions on submitting comments, see the Public Participation heading below. Note that all comments received will be posted without change to https://www.regulations.gov, including any personal information provided. Please see the Privacy Act heading below.

Public Participation and Request for Comments

If you submit a comment, please include the docket number for this notice (FMCSA-2024-0313), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2024-0313/document, click on this notice, click “Comment,” and type your comment into the text box on the following screen.

If you submit your comments by mail or hand delivery, submit them in an unbound format, no larger than 8½ by 11 inches, suitable for copying and electronic filing.

Comments received after the comment closing date will be included in the docket and will be considered to the extent practicable.

Privacy Act

In accordance with 5 U.S.C. 553(c), DOT solicits comments from the public to better inform its regulatory process. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

Background

FMCSA maintains online information and resources to assist consumers, drivers, and others associated with the motor carrier industry with understanding their consumer protection rights and, if necessary, with filing a complaint with the Agency. When effectively applied, this information can contribute to safer motor carrier operations on our nation's highways and improved consumer protection. NCCDB complaint data also provides FMCSA with statistical information regarding motor carriers, in particular the household goods moving industry. NCCDB data is used to alert consumers of those motor carriers with a history of complaints related to transporting household goods and helps FMCSA provide guidance to the public on how to avoid being victimized by unscrupulous moving companies. The data also allows FMCSA to identify problematic motor carriers for enforcement actions and promote compliance. Motor carriers can use NCCDB data to assist with complaint reconciliation.

Since 2016, the NCCDB system has been the central repository for motor carrier complaints received by FMCSA; however, responding to consumer complaints has a long-standing Agency regulatory history. Congress first mandated a Safety Violation Hotline Service in section 4017 of the “Transportation Equity Act of the 21st Century,” (Pub. L. 105-178, 112 Stat. 107 (June 9, 1998)). Congress required DOT to establish, maintain, and promote the use of a nationwide toll-free telephone system to be used by drivers of commercial motor vehicles and others to report potential violations of Federal Motor Carrier Safety Regulations.

The Motor Carrier Safety Improvement Act of 1999 (Pub. L. 106-159, 113 Stat. 1748 (Dec. 9, 1999)) created FMCSA and expanded the Safety Violation Hotline Service to include a 24-hour operation and accept consumer complaints on violations of the commercial regulations previously administered by the Interstate Commerce Commission (i.e., household goods and hostage load complaints).

The Safe, Accountable, Flexible, and Efficient Transportation Equity Act: A Legacy for Users (SAFETEA-LU) (Pub. L. 109-59, 119 Stat. 1144 (Aug. 10, 2005)) required FMCSA to create a system, database, and procedures for filing and logging consumer complaints relating to household goods motor carriers for the purpose of compiling or linking complaint information gathered by FMCSA and the States with regard to such carriers. SAFETEA-LU also required FMCSA to create procedures to allow the public to have access, subject to 5 U.S.C. 552(a), to aggregated complaint information and a process for carriers to challenge duplicate or fraudulent information in the database.

Complaints are also accepted through the NCCDB in connection with other statutory mandates including the protection of drivers against harassment and coercion under sections 32301(b) and 32911, respectively, of the Moving Ahead for Progress in the 21st Century Act (Pub. L. 112-141, 126 Stat. 405 (July 6, 2012)).

FMCSA is in the process of modernizing its NCCDB complaint program and system as well as expanding the program alongside process recommendations submitted by the U.S. Government Accountability Office in September 2023. These recommendations are being implemented to expand and enhance FMCSA's ability to centralize the collection, monitoring, and response to consumer complaints about Agency programs, to establish reasonable procedures to provide timely responses to consumers regarding their complaints, and to share complaint information with the public as well as Federal and State agencies, as necessary and applicable.

Title: National Consumer Complaint Database.

OMB Control Number: 2126-0067.

Type of Request: Revision of a currently approved ICR.

Respondents: Consumers, Drivers, and Other Participants in the Motor Carrier Industry.

Estimated Number of Respondents: 64,545.

Estimated Time per Response: 15 minutes.

Expiration Date: June 30, 2025.

Frequency of Response: On occasion.

Estimated Total Annual Burden: 16,136. The annual burden was calculated using the complaint volume for each of the 12 categories of complaint types.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.

Thomas P. Keane,
Associate Administrator, Office of Research and Registration.

[FR Doc. 2024-31549 Filed 1-2-25; 8:45 am]

BILLING CODE 4910-EX-P